DEPARTMENT OF JUSTICE

National Institute of Corrections

Solicitation for a Cooperative Agreement—Training for Executive Excellence: Leadership Style and Instrumentation Curriculum Development

AGENCY: National Institute of Corrections, Department of Justice.

ACTION: Solicitation for a Cooperative Agreement.

SUMMARY: The National Institute of Corrections' (NIC), Academy Division is seeking applications for the development of a competency based, blended modality training curriculum that will provide correctional executives with the knowledge, skills and abilities necessary to become more self-aware, ethical and value based, a strategic thinker, more organizationally influential, collaborative, team oriented, capable of setting effective organizational priorities, identifying a strategic vision and mission, and creating collaborative partnerships in the external environment.

DATES: Applications must be received by 4 p.m. on Thursday, March 25, 2010.

ADDRESSES: Mailed applications must be sent to: Director, National Institute of Corrections, 320 First Street, NW., Room 5007, Washington, DC 20534. Applicants are encouraged to use Federal Express, UPS, or similar service to ensure delivery by the due date.

Hand delivered applications should be brought to 500 First Street, NW., Washington, Washington, DC 20534. At the front desk, dial 7-3106, extension 0 for pickup.

Faxed applications will not be accepted. Electronic applications can be submitted via http://www.grants.gov.

FOR FURTHER INFORMATION CONTACT: All technical or programmatic questions concerning this announcement should be directed to Robert M. Brown, Jr., Chief, National Institute of Corrections Academy. He can be reached by calling 303-365-4400, or by e-mail at rbrown@bop.gov.

SUPPLEMENTARY INFORMATION: Overview: NIC is looking to develop a curriculum, which follows NIC's Instructional Theory Into Practice (ITIP) model. The curriculum is to be based on the National Institute of Corrections' “Correctional Leadership Competencies for the 21st Century” for the executive level. It is expected that the curriculum will utilize blended learning formats to accommodate the possibility of distance learning. The curriculum will be piloted, offered and changes made based upon NIC's evaluation protocol for the program.

Background: NIC has been committed for years to improving executive performance by providing excellent leadership and management training to corrections professionals. In an effort to expand on the resources NIC has provided the field with the document “Correctional Leadership Competencies for the 21st Century”, a portion of which specifically addresses the role of Correctional Executive, the next step is to create a blended training curriculum for this position.

Purpose: To create a training curricula for the Academy's Executive Excellence Program.

Scope of Work: At the end of this Cooperative Agreement, a curriculum will be developed using NIC's Instructional Theory Into Practice (ITIP) model. The curriculum will include a facilitator's manual, participant's manual, and all relevant supplemental material (such as PowerPoint slides, visual and/or audio aids, handouts, exercises, etc.). The use of blended learning tools such as a live web-based training environment (e.g. WebEx) or supplemental on-line training courses is expected. Clear learning objectives will be contained in each lesson, with delivery modalities based on how to most efficiently and effectively achieve these objectives.

The curriculum will be piloted and changes incorporated as necessary. Consideration will be given to advance work for participants, such as reading assignments or taking an online course through NIC's Learn Center. An evaluation, to be distributed at the beginning and conclusion of the training, has already been developed. This evaluation protocol examines the content, processes, and delivery of the program. The evaluation has been designed with the purpose in mind of helping to revise and improve the training and curricula.

Specific Requirements:

The document “Correctional Leadership Competencies for the 21st Century” has identified needs for Correctional Executives. This document is to be the foundation for the development of the training curricula.

Modules may address the following: A 360 degree model for executives; Executive problem solving; Executive leadership development plan; a series of executive team building exercises; Exploration of leadership styles through the Myers-Briggs Type Indicator; An emotional intelligence and leadership profile; An organizational simulation; A strategic approach to communication; Designing an executive peer observation process for the non-traditional classroom; A blended executive book review process; A framework that links the developmental feedback and executive competency models for the program; The executive team: who, how, when, and why; Executive decision-making; and Assisting with the development of recommended materials for the participant notebook.

Document Preparation: For all awards in which a document will be a deliverable, the awardee must follow the Guidelines for Preparing and Submitting Manuscripts for Publication as found in the “General Guidelines for Cooperative Agreements” which will be included in the award package. All final publications submitted for posting on the NIC website must meet the federal government's requirement for accessibility (508 PDF or HTML file). All documents developed under this cooperative agreement must be submitted in draft form to NIC for review before the final products are delivered.

Application Requirements: Applications should be concisely written, typed double spaced and reference the project by the “NIC Opportunity Number” and Title in this announcement. The package must include: A cover letter that identifies the audit agency responsible for the applicant's financial accounts as well as the audit period or fiscal year that the applicant operates under (e.g., July 1 through June 30); a program narrative in response to the statement of work and a budget narrative explaining projected costs. The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://www.nicic.gov/Downloads/PDF/certif-frm.pdf.)

Applications may be submitted in hard copy, or electronically via http://www.grants.gov. If submitted in hard copy, there needs to be an original and three copies of the full proposal (program and budget narratives, application forms and assurances). The original should have the applicant's signature in blue ink.

Authority: Public Law 93-415.

Funds Available: NIC is seeking the applicant's best ideas regarding accomplishment of the scope of work and the related costs for achieving the goals of this solicitation. Funds may only be used for the activities that are linked to the desired outcome of the project.

This project will be completed for the National Institute of Corrections Academy Division.

Eligibility of Applicants: An eligible applicant is any public or private agency, educational institution, organization, individual or team with expertise in the described areas.

Review Considerations: Applications received under this announcement will be subjected to a 3 to 5 person NIC Peer Review Process.

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CCR can be done online at the CCR Web site: http://www.ccr.gov. A CCR Handbook and worksheet can also be reviewed at the Web site.

Number of Awards: One.

NIC Opportunity Number: 10A62. This number should appear as a reference line in the cover letter, where indicated on Standard Form 424, and outside of the envelope in which the application is sent.

Executive Order 12372: This project is not subject to the provisions of Executive Order 12372.

(Catalog of Federal Domestic Assistance Number 16.601)

Morris L. Thigpen,
Director, National Institute of Corrections.

[FR Doc. 2010-5236 Filed 3-10-10; 8:45 am]

BILLING CODE 4410-36-M